ENVIRONMENTAL PROTECTION AGENCY

[FRL-9996-32-OMS]

Privacy Act of 1974; System of Records

AGENCY: Office of Mission Support, Environmental Protection Agency (EPA).

ACTION: Rescindment of a System of Records Notice.

SUMMARY: The Environmental Protection Agency (EPA) Office of Research and Development is giving notice of its intent to rescind the Peer Review Panelist Information System of Records Notice (EPA-37).

DATES: The Agency stopped using the PRPIS on January 27, 2016. Persons wishing to comment on the rescindment of this system must do so by September 3, 2019.

ADDRESSES: Submit your comments, identified by Docket ID No. EPA-HQ-OEI-2018-0566, by one of the following methods:

Regulations.gov: www.regulations.gov. Follow the online instructions for submitting comments.

Email: oei.docket@epa.gov.

Fax: 202-566-1752.

Mail: OMS Docket, Environmental Protection Agency, Mailcode: 2822T, 1200 Pennsylvania Ave. NW, Washington, DC 20460.

Hand Delivery: OMS Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2018-0566. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. However, over 180 federal agencies use www.regulations.gov and some may require Personally Identifiable Information (PII) and some may not. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OEI Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OMS Docket is (202) 566-1752.

FOR FURTHER INFORMATION CONTACT: Bhagya Subramanian at subramanian.bhagya@epa.gov or (513) 569-7349

SUPPLEMENTARY INFORMATION: The Peer Review Panelist Information System (EPA-37) was established to assist the EPA Office of Research and Development (ORD) conduct and document review of applications for research grants, cooperative agreements, and fellowships through the use of peer reviewers from the scientific community. ORD is no longer collecting the information about the scientific community. The system stopped collecting data on Jan 27, 2016. This information is now processed through Inter Agency Agreement (IA) with the Department of Health and Human Services. The HHS system is used for Peer reviews. The EPA Records Schedule 1003 has a 10-year retention. Records collected are stored on a CD and may be disposed in January 2026.

SYSTEM NAME AND NUMBER:

Peer Review Panelist Information System (EPA-37)

HISTORY:

62 FR 48278 (September 15, 1997)—Establishment of the Peer Review Panelist Information System of Records Notice (EPA-37).

67 FR 8246 (February 22, 2002)—Republication of existing System of Records.

Dated: May 3, 2019.
Vaughn Noga,
Senior Agency Official for Privacy.

[FR Doc. 2019-16568 Filed 8-1-19; 8:45 am]

BILLING CODE 6560-50-P